DEPARTMENT OF DEFENSE

Office of the Secretary

[DOD-2008-OS-0030]

Privacy Act of 1974; Systems of Records

AGENCY: DoD; Defense Intelligence Agency.

ACTION: Notice to Amend a System of Records.

SUMMARY: The Defense Intelligence Agency is amending a system of records notice to its existing inventory of record systems subject to the Privacy Act of 1974 (5 U.S.C. 552a), as amended.

DATES: This proposed action will be effective without further notice on April 23, 2008 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency notices for systems of records subject to the Privacy Act of 1974, (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: March 19, 2008.
L.M. Bynum,
Alternate Federal Register Liaison Officer, Department of Defense.

LDIA 05-0003

System name:

Joint Intelligence Virtual University (JIVU II) (November 25, 2005, 70 FR 71098).

* * * * *

Changes:

System locations:

Delete entry and replace with “Regional Support: Command (RSC) Northeast Continental United States (CONUS).

Secondary location:

Defense Intelligence Agency, Washington, DC 20340”.

* * * * *

Retention and disposal:

Delete entry and replace with “Temporary-destroy when 5 years old or when superseded or obsolete, whichever is sooner”.

* * * * *

LDIA 05-0003

System name:

Joint Intelligence Virtual University (JIVU II)

System locations:

Regional Support: Command (RSC) Northeast Continental United States (CONUS).

Secondary location:

Defense Intelligence Agency, Washington, DC 20340.

Categories of individuals covered by the system:

All individuals with access to the Joint Worldwide Intelligence Communication System (JWICS) and the Secret Internet Protocol Router Network (SIPRNET) networks.

Categories of records in the system:

The system consists of education, training, and Career Development material and employee information such as name, email address, organization, Social Security Number, position number, position job code and other optional data to include title, address, city, state, zip code, country, phone number, and brief biography.

Authority for maintenance of the system:

The National Security Act of 1947, as amended, (50 U.S.C. 401 et seq.); 10 U.S.C. 113; 10 U.S.C. 125; and E. O. 9397 (SSN).

Purpose(s):

The purpose of the system is to establish a system of records for the JIVU, an Intelligence Community training system which permits users on the Joint Worldwide Intelligence Communication System (JWICS) and the Secret Internet Protocol Router Network (SIPRNET) system, to take training courses for career advancement and job performance and to link such training to the user's personal Human Resource records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The `Blanket Routine Uses' set forth at the beginning of the Defense Intelligence Agency's compilation of systems records notices apply to this system.

Policies and practices for storing, retrieving, accessing, retaining, and disposing of records in the system:

Storage:

Electronic storage media.

Retrievability:

Data will be retrievable by name or user login identifier.

Safeguards:

The servers hosting the JIVU application and the servers hosting the Oracle database are located in a secure area under employee supervision 24/7. Records are maintained and accessed by authorized personnel via the JWICS and SIPRNET internal, classified networks.

Retention and disposal:

Temporary-destroy when 5 years old or when superseded or obsolete, whichever is sooner.

System manager(s) and address:

Directorate of Personnel (DP), Defense Intelligence Agency, Washington DC 20340-3191.

Notification procedure:

Individuals seeking to determine whether information about themselves is contained in this system of records should address written inquiries to the Freedom of Information Act Office, Defense Intelligence Agency (DAN-1A), 200 MacDill Blvd., Washington DC 20340-5100.

Individuals should provide their full name, current address, telephone number and Social Security Number (SSN).

Record access procedures:

Individuals seeking access to information about themselves contained in this system of records should address written inquiries to the Freedom of Information Act Office, Defense Intelligence Agency (DAN-1A), 200 MacDill Blvd., Washington DC 2030-5100.

Individuals should provide their full name, current address, telephone number and Social Security Number (SSN).

Contesting record procedures:

DIA's rules for accessing records, for contesting contents and appealing initial Agency determinations are published in DIA Regulation 12-12 “Defense Intelligence Agency Privacy Program”; 32 CFR part 319—Defense Intelligence Agency Privacy Program; or may be obtained from the system manager.

Record Source Categories:

Agency officials, employees, educational institutions, parent Services of individuals and immediate supervisor on station, and other Government officials.

Exemptions claimed for the system:

None.

[FR Doc. E8-5871 Filed 3-21-08; 8:45 am]

BILLING CODE 5001-06-P